ENVIRONMENTAL PROTECTION AGENCY

40 CFR Parts 9, 22, 85, 86, 600, 1033, 1036, 1037, 1039, 1042, 1065, 1066, and 1068

DEPARTMENT OF TRANSPORTATION

National Highway Traffic Safety Administration

49 CFR Parts 512, 523, 534, 535, 537, and 583.

[EPA-HQ-OAR-2014-0827; NHTSA-2014-0132; FRL-9931-77-OAR]

RIN 2060-AS16; RIN 2127-AL52

Greenhouse Gas Emissions and Fuel Efficiency Standards for Medium- and Heavy-Duty Engines and Vehicles—Phase 2; Notice of Public Hearings

AGENCY: Environmental Protection Agency (EPA) and National Highway Traffic Safety Administration (NHTSA), Department of Transportation.

ACTION: Notice of public hearing.

SUMMARY: The Environmental Protection Agency (EPA) and the National Highway Traffic Safety Administration (NHTSA) are announcing a public hearing to be held for the joint proposed rules “Greenhouse Gas Emissions and Fuel Efficiency Standards for Medium- and Heavy-Duty Engines and Vehicles—Phase 2,” and also for NHTSA's Draft Environmental Impact Statement. The proposed rules were published in the Federal Register on July 13, 2015. The Draft Environmental Impact Statement was published on June 19, 2015, and is available on the NHTSA Web site mentioned below. This hearing will be the second of two hearings, which will be held on August 6 and August 18, 2015. The August 6, 2015 hearing was announced in a separate Federal Register notice on July 28, 2015.

DATES: NHTSA and EPA will jointly hold a public hearing on Tuesday, August 18, 2015, beginning at 9:00 a.m. local time. EPA and NHTSA will make every effort to accommodate all speakers that arrive and register. The hearing will continue until everyone has had a chance to speak. If you would like to present oral testimony at this public hearing, please contact the person identified under FOR FURTHER INFORMATION CONTACT by August 11, 2015.

In order to provide commenters 30 days after the last public hearing, the comment period for the proposal has been extended through September 17, 2015.

ADDRESSES: The August 18, 2015 hearing will be held at the Westin Hotel Long Beach, 333 East Ocean Boulevard, Long Beach, California. The hearing will be held at sites accessible to individuals with disabilities. Written comments on the proposed rule may also be submitted to EPA and NHTSA electronically, by mail, by facsimile, or through hand delivery/courier. Please refer to the notice of proposed rulemaking for the addresses and detailed instructions for submitting written comments.

FOR FURTHER INFORMATION CONTACT: If you would like to present oral testimony at the public hearing, please contact JoNell Iffland at EPA by the date specified under DATES, at: Office of Transportation and Air Quality, Assessment and Standards Division (ASD), Environmental Protection Agency, 2000 Traverwood Drive, Ann Arbor, MI 48105; telephone number: (734) 214-4454; fax number: (734) 214-4050; email address: iffland.jonell@epa.gov (preferred method for registering). Please provide the following information: Name, affiliation, address, email address, and telephone and fax numbers, and whether you require accommodations such as a sign language interpreter.

Questions concerning the NHTSA proposed rule or Draft Environmental Impact Statement should be addressed to NHTSA: Ryan Hagen or Analiese Marchesseault, Office of Chief Counsel, National Highway Traffic Safety Administration, 1200 New Jersey Avenue SE., Washington, DC 20590. Telephone: (202) 366-2992. Questions concerning the EPA proposed rule should be addressed to EPA: Tad Wysor, Office of Transportation and Air Quality, Assessment and Standards Division (ASD), Environmental Protection Agency, 2000 Traverwood Drive, Ann Arbor, MI 48105; telephone number: (734) 214-4332; fax number: (734) 214-4050; email address: wysor.tad@epa.gov. You may learn more about the jointly proposed rules by visiting NHTSA's or EPA's Web sites at http://www.nhtsa.gov/fuel-economy or http://www.epa.gov/otaq/climate/regs-heavy-duty.htm or by searching the rulemaking dockets (EPA-HQ-OAR-2014-0827; NHTSA-2014-0132;) at www.regulations.gov.

SUPPLEMENTARY INFORMATION: The purpose of the public hearing is to provide the public an opportunity to present oral comments regarding NHTSA and EPA's proposal for “Greenhouse Gas Emissions Standards and Fuel Efficiency Standards for Medium- and Heavy-Duty Engines and Vehicles—Phase 2.” The hearing also offers an opportunity for the public to provide oral comments regarding NHTSA's Draft Environmental Impact Statement, accompanying the proposed NHTSA fuel efficiency standards. The proposed rules would establish a second round of standards for the agencies' comprehensive Heavy-Duty National Program, which would further reduce greenhouse gas emissions and increase fuel efficiency for on-road heavy-duty vehicles. These new standards would phase in over time, beginning in the 2018 model year and entering into full effect in model year 2027. NHTSA's proposed fuel consumption standards and EPA's proposed carbon dioxide (CO2) emission standards are tailored to each of four regulatory categories of heavy-duty vehicles: (1) Combination Tractors; (2) Trailers used in combination with those tractors; (3) Heavy-duty Pickup Trucks and Vans; and (4) Vocational Vehicles. The proposal also includes separate fuel efficiency and greenhouse gas standards for the engines that power combination tractors and vocational vehicles.

The joint proposed rules for which EPA and NHTSA are holding this public hearing were published in the Federal Register on July 13, 2015 (80 FR 40138), and are also available at the Web sites listed above under FOR FURTHER INFORMATION CONTACT. NHTSA's Draft Environmental Impact Statement is available on the NHTSA Web site and in NHTSA's rulemaking docket, both referenced above. Once NHTSA and EPA learn how many people have registered to speak at the public hearing, we will allocate an appropriate amount of time to each participant, allowing time for necessary breaks. In addition, we will reserve a block of time for anyone else in the audience who wants to give testimony. For planning purposes, each speaker should anticipate speaking for approximately five minutes, although we may need to shorten that time if there is a large turnout. We request that you bring two copies of your statement or other material for the EPA and NHTSA panels.

EPA and NHTSA will conduct the hearing informally, and technical rules of evidence will not apply. We will arrange for a written transcript of each hearing and keep the official record for the proposed rule open for 30 days after this public hearing to allow speakers to submit supplementary information. Panel members may ask clarifying questions during the oral statements but will not respond to the statements at that time. You may make arrangements for copies of the transcripts directly with the court reporter. Written statements and supporting information submitted during the comment period will be considered with the same weight as oral comments and supporting information presented at the public hearings. The comment period for the proposed rule has been extended such that the closing date is 30 days after this public hearing. Therefore, written comments on the proposal must be postmarked no later than September 17, 2015.

Dated: July 28, 2015.
Raymond R. Posten,
Associate Administrator for Rulemaking, National Highway Traffic Safety Administration.
Dated: July 28, 2015.
Christopher Grundler,
Director, Office of Transportation and Air Quality, Environmental Protection Agency.

[FR Doc. 2015-19004 Filed 7-31-15; 8:45 am]

BILLING CODE 6560-50-P